DEPARTMENT OF THE INTERIOR

Office of the Secretary

[XXXD5198NI/DS61100000/DNINR0000.000000/DX61104]

Exxon Valdez Oil Spill Public Advisory Committee; Call for Nominations

AGENCY: Office of the Secretary, Interior.

ACTION: Notice to solicit nominations.

SUMMARY: The Exxon Valdez Oil Spill Trustee Council is soliciting nominations for the Public Advisory Committee. The Public Advisory Committee advises the Trustee Council on decisions related to the planning, evaluation, funds allocation, and conduct of injury assessment and restoration activities related to the T/V Exxon Valdez oil spill of March 1989. Public Advisory Committee members will be selected and appointed by the Secretary of the Interior to serve a 2-year term.

DATES: All nominations must be received by December 17, 2018.

ADDRESSES: A complete nomination package should be submitted by hard copy or via email to Elise Hsieh, Executive Director, Exxon Valdez Oil Spill Trustee Council, 4230 University Drive, Suite 220, Anchorage, Alaska, 99508-4650, or via email at elise.hsieh@alaska.gov.

FOR FURTHER INFORMATION CONTACT: Questions should be directed to Cherri Womac, Exxon Valdez Oil Spill Trustee Council, 4230 University Drive, Suite 220, Anchorage, Alaska, 99508-4650, (907) 278-8012 or (800) 478-7745 or via email at cherri.womac@alaska.gov; or Philip Johnson, Designated Federal Officer, U.S. Department of the Interior, Office of Environmental Policy and Compliance, 1689 C Street, Suite 119, Anchorage, Alaska, 99501-5126, (907) 271-5011.

SUPPLEMENTARY INFORMATION: The Exxon Valdez Oil Spill Public Advisory Committee was created by Paragraph V.A.4 of the Memorandum of Agreement and Consent Decree entered into by the United States of America and the State of Alaska on August 27, 1991, and approved by the United States District Court for the District of Alaska in settlement of United States of America v. State of Alaska, Civil Action No. A91-081 CV. The Public Advisory Committee was created to advise the Trustee Council on matters relating to decisions on injury assessment, restoration activities, or other use of natural resource damage recoveries obtained by the Government.

The Trustee Council consists of representatives of the U.S. Department of the Interior, U.S. Department of Agriculture, National Oceanic and Atmospheric Administration, Alaska Department of Fish and Game, Alaska Department of Environmental Conservation, and Alaska Department of Law.

The Public Advisory Committee consists of 10 members to reflect balanced representation from each of the following principal interests: aquaculture/mariculture, commercial tourism, conservation/environmental, recreation, subsistence use, commercial fishing, native landownership, sport hunting/fishing, science/technology, and public-at-large.

Nominations for membership may be submitted by any source.

Nominations should include a resume providing an adequate description of the nominee's qualifications, including information that would enable the Department of the Interior to make an informed decision regarding meeting the membership requirements of the Public Advisory Committee and permit the Department of the Interior to contact a potential member.

Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Authority: 5 U.S.C. Appendix 2.

Michaela Noble,
Director, Office of Environmental Policy and Compliance.

[FR Doc. 2018-24866 Filed 11-14-18; 8:45 am]

BILLING CODE 4334-63-P